DEPARTMENT OF HOMELAND SECURITY

Federal Emergency Management Agency

44 CFR Part 67

Final Flood Elevation Determinations

AGENCY: Federal Emergency Management Agency (FEMA), Department of Homeland Security, Mitigation Division.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr. CFM, Acting Section Chief, Engineering Management Section, Mitigation Division, 500 C Street, SW., Washington, DC 20472, (202) 646-3151.

SUPPLEMENTARY INFORMATION: FEMA makes the final determinations listed below for the modified BFEs for each community listed. These modified elevations have been published in newspapers of local circulation and ninety (90) days have elapsed since that publication. The Mitigation Division Director has resolved any appeals resulting from this notification.

This final rule is issued in accordance with Section 110 of the Flood Disaster Protection Act of 1973, 42 U.S.C. 4104, and 44 CFR Part 67.

The Agency has developed criteria for floodplain management in floodprone areas in accordance with 44 CFR Part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR Part 10, Environmental Consideration. No environmental impact assessment has been prepared.

Regulatory Flexibility Act. The Mitigation Division Director certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, flood insurance, reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD) •Elevation in feet (NAVD)
ARIZONA
Coconino County (FEMA Docket No. D-7642)
Bow and Arrow Wash:
Just downstream of Lone Tree Road | •6,878
Approximately 0.3 mile upstream of Lake Mary Road | •6,849
City of Flagstaff
Peak View Wash:
At the confluence with Rio de Flag | •7,112
Approximately 120 feet upstream of Lois Lane | •7,123
Rio de Flag:
Approximately 868 feet upstream of Townsend-Winona Road | •6,617
Approximately 580 feet downstream of Hidden Hollow Road | •7,148
City of Flagstaff, Coconino County (Unincorporated Areas)
Schultz Creek:
At the confluence with Rio de Flag | •7,006
Approximately 125 feet upstream of North Fort Valley Road | •7,140
Switzer Canyon Wash:
Approximately 170 feet upstream of U.S. Route 66 (Santa Fe Avenue) | •6,869
Approximately 0.6 mile upstream of West Fir Avenue | •7,030
City of Flagstaff, Coconino County (Unincorporated Areas)
City of Flagstaff
Maps available for inspection at the City of Flagstaff Community Development, 211 West Aspen Avenue, Flagstaff, Arizona.
Coconino County (Unincorporated Areas)
Maps available for inspection at the Coconino County Community Development, 2500 North Fort Valley Road, Flagstaff, Arizona.
Yuma County (FEMA Docket No. D-7642)
Colorado River:
At the downstream county boundary | •94
At the upstream county boundary | •202
Yuma County (Unincorporated Areas)
Maps available for inspection at the Yuma County Department of Development Services, 2351 West 26th Street, Yuma, Arizona.
City of Yuma
Maps available for inspection at the City of Yuma Community Development Department, One City Plaza, Yuma, Arizona.
City of San Luis
Maps available for inspection at the City of San Luis Public Works Administration Office, 751 North 4th Avenue, San Luis, Arizona.
FLORIDA
Flagler County (FEMA Docket No. D-7594)
Big Mulberry Branch:
Approximately 1,620 feet downstream of Palm Harbor Parkway | *7
Approximately 3,500 feet upstream of Belle Terre Parkway | *24
City of Palm Coast
Black Branch:
At the confluence with Haw Creek | *12
Approximately 0.75 mile upstream of Old Haw Creek Road | *16
Flagler County (Unincorporated Areas), City of Bunnell
Black Point Swamp:
At the confluence with Black Branch | *12
At the upstream side of State Routes 20/100 | *14
Flagler County (Unincorporated Areas)
Wadsworth/Korona Canal:
Approximately 75 feet downstream of Old Kings Road | *12
At the upstream side of County Road 325 | *27
Bull Creek:
At the confluence with Crescent Lake | *7
At the upstream side of State Route 100 | *19
Bull Creek Tributary:
At the confluence with Bull Creek | *11
Approximately 20 feet upstream of County Route 305 | *24
Bulow Creek:
Approximately 1.3 miles upstream of Old Kings Road | *8
At the upstream side of Old Kings Road | *21
Bulow Creek Tributary:
Approximately 500 feet downstream of the confluence with Bulow Creek | *13
Approximately 2,000 feet downstream of the confluence with Bulow Creek | *18
Haw Creek:
At the confluence with Crescent Lake | *7
Approximately 3.48 miles upstream of County Route 305 | *12
Graham Swamp:
At the confluence with the Intracoastal Waterway | *6
Approximately 1.6 miles downstream of East Highway | *11
Flagler County (Unincorporated Areas), City of Palm Coast
Parker Canal:
At the confluence with Black Branch | *12
At the confluence with Sweetwater Branch | *23
Flagler County (Unincorporated Areas)
Atlantic Ocean:
Approximately 100 feet south of the intersection of North Shore Boulevard and Camino Del Ray Parkway | *7
Approximately 475 feet east of the intersection of Deerwood Street and North Ocean Shore Boulevard | *16
Flagler County (Unincorporated Areas), Town of Beverly Beach, City of Flagler Beach, Town of Marineland, City of Palm Coast
Town of Beverly Beach
Maps available for inspection at the Beverly Beach Town Hall, 2770 North Oceanshore Boulevard, Beverly Beach, Florida.
City of Bunnell
Maps available for inspection at the Bunnell City Hall, 200 South Church Street, Bunnell, Florida.
City of Flagler Beach
Maps available for inspection at the Flagler Beach City Hall, 105 South 2nd Street, Flagler Beach, Florida.
Flagler County (Unincorporated Areas)
Maps available for inspection at the Flagler County Planning and Zoning Department, 1200 East Moody Boulevard, Suite 2, Bunnell, Florida.
Town of Marineland
Maps available for inspection at the Marineland Town Office, 9507 Oceanshore Boulevard, St. Augustine, Florida.
City of Palm Coast
Maps available for inspection at the Palm Coast City Hall, 2 Commerce Boulevard, Palm Coast, Florida.
NEW JERSEY
Ocean County (FEMA Docket No. D-7642)
Cedar Creek:
Approximately 0.37 mile downstream of U.S. Route 9 | •5
Just upstream of the southbound lanes of Garden State Parkway | •19
Township of Lacey
Jakes Branch:
Just upstream of County Route 619 | •16
Approximately 0.34 mile upstream of County Route 619 | •19
Township of Beachwood
North Branch Metedeconk River:
Approximately 95 feet downstream of State Route 88 | •9
Township of Brick
Atlantic Ocean:
Approximately 0.31 mile southeast of the intersection of State Route 88 and County Route 604 | •10
Borough of Point Pleasant
North Branch Beaverdam Creek:
Entire shoreline | •5
Barnegat Bay:
Entire shoreline | •5
Bayhead Harbor:
Entire shoreline | •5
Borough of Point Pleasant
Borough of Beachwood
Maps available for inspection at the Beachwood Borough Municipal Building, 1600 Pinewald Road, Beachwood, New Jersey.
Township of Brick
Maps available for inspection at the Brick Municipal Building, 401 Chambersbridge Road, Brick, New Jersey.
Township of Lacey
Maps available for inspection at the Lacey Township Municipal Building, 818 Lacey Road, Forked River, New Jersey.
Borough of Point Pleasant
Maps available for inspection at the Point Pleasant Borough Municipal Building, 2233 Bridge Avenue, Point Pleasant, New Jersey.
NEW JERSEY
Union County (FEMA Docket No. D-7598)
Rahway River:
At a point immediately upstream of Lawrence Street | *9
Approximately 650 feet downstream of Springfield Avenue | *91
City of Rahway, Townships of Clark, Cranford, Springfield, Union, Winfield, Borough of Kenilworth
Black Brook:
At the confluence with Rahway River | *75
Approximately 180 feet downstream of Springfield Road | *75
Borough of Kenilworth, Township of Union
Branch 10-30-1:
At the confluence with Drainage Ditch | *75
Approximately 350 feet upstream of Lafayette Place | *75
Borough of Kenilworth
College Branch:
At the confluence with Rahway River | *72
At a point immediately upstream of Springfield Avenue | *72
Township of Cranford
Drainage Ditch:
At the confluence with Rahway River | *73
At the confluence of Branch 10-30-1 | *75
Borough of Kenilworth, Township of Springfield
Gallows Hill Road Branch:
At the confluence with Rahway River | *68
Approximately 350 feet upstream of Pittsfield Street | *71
Township of Cranford
Nomahegan Brook:
At the confluence with Rahway River | *74
Approximately 580 feet downstream of Springfield Avenue | *74
Townships of Cranford and Springfield, Town of Westfield
Robinsons Branch:
At the confluence with Rahway River | *14
At the confluence of Robinsons Branch | *50
City of Rahway, Town of Westfield, Township of Clark
South Branch Rahway River:
At the confluence with Rahway River | *9
Approximately 100 feet upstream of East Inman Avenue | *10
City of Rahway
Stream 10-30:
At the confluence with Drainage Ditch | *74
Approximately 100 feet downstream of Willshire Drive | *74
Borough of Kenilworth
Vauxhall Branch:
At the confluence with Rahway River | *91
At Liberty Avenue | *91
Township of Union
Cedar Brook:
At Terrill Road | *131
A point immediately upstream of Willow Avenue | *141
Borough of Fanwood
Vauxhall Sub Branch:
At the confluence with Vauxhall Branch | *91
At Interstate 78 | *91
Township of Union
West Branch:
At the confluence with Elizabeth River | *42
Approximately 1,400 feet upstream of Garden State Parkway entrance ramp | *60
Lightning Brook:
At the confluence with Elizabeth River | *55
Approximately 950 feet downstream of Union Avenue | *55
Elizabeth River:
At Trotters Lane | *18
Approximately 1,050 feet upstream of Union Avenue | *68
Townships of Union and Hillside
Trotters Lane Branch:
At Morris Avenue | *27
Approximately 300 feet downstream of North Avenue | *28
City of Elizabeth
Kings Creek:
A point immediately upstream of Barnett Street | *10
Approximately 1,000 feet upstream of Lower Road to Rahway | *13
City of Rahway
East Branch Rahway River:
Approximately 450 feet upstream of the confluence with Rahway River | *91
Approximately 2,800 feet downstream of Vauxhall Road | *91
Townships of Union and Springfield
Kings Creek:
Approximately 715 feet downstream of U.S. Route 9 | *14
Just downstream of U.S. Route 9 | *17
City of Linden
Township of Clark
Maps available for inspection at the Clark Township Engineer's Office, Municipal Building, 430 Westfield Avenue, Clark, New Jersey.
Township of Cranford
Maps available for inspection at the Cranford Township Engineer's Office, Municipal Building, 8 Springfield Avenue, Cranford, New Jersey.
City of Elizabeth
Maps available for inspection at the Elizabeth City Engineer's Office, 50 Winfield Scott Plaza, Elizabeth, New Jersey.
Borough of Fanwood
Maps available for inspection at the Fanwood Borough Engineer's Office, 75 North Martine Avenue, Fanwood, New Jersey.
Township of Hillside
Maps available for inspection at the Hillside Township Engineer's Office, JFK Plaza, Hillside and Liberty Avenue, Hillside, New Jersey.
Borough of Kenilworth
Maps available for inspection at the Kenilworth Borough Engineer's Office, Municipal Building, 567 Boulevard, Kenilworth, New Jersey.
City of Linden
Maps available for inspection at the Linden City Engineer's Office, Municipal Building, 301 North Wood Avenue, Linden, New Jersey.
City of Rahway
Maps available for inspection at the Rahway City Engineer's Office, 1 City Hall Plaza, Rahway, New Jersey 07065.
Township of Springfield
Maps available for inspection at the Springfield Township Engineer's Office, Municipal Building, 100 Mountain Avenue, Springfield, New Jersey.
Township of Union
Maps available for inspection at the Union Township Engineer's Office, Municipal Building, 1976 Morris Avenue, Union, New Jersey.
Town of Westfield
Maps available for inspection at the Westfield Town Engineer's Office, Municipal Building, 425 East Broad Street, Westfield, New Jersey.
Township of Winfield
Maps available for inspection at the Winfield Township Municipal Building, 12 Gulfstream Avenue, New Jersey.
NORTH CAROLINA
Alamance County (FEMA Docket No. D-7646)
Back Creek:
At the confluence with West Black Creek and Michaels Branch | •576
At the Guilford County/Town of Gibsonville jurisdictional boundary | •616
Alamance County (Unincorporated Areas), City of Burlington, Town of Gibsonville
Back Creek Tributary 2:
At the confluence with Back Creek | •589
Approximately 0.7 mile upstream of the Alamance/Guilford County boundary | •667
Beaver Creek:
At the confluence with Lake Macintosh | •557
Approximately 1,000 feet upstream of the Alamance/Guilford County boundary | •572
Alamance County (Unincorporated Areas)
Big Alamance Creek:
Approximately 500 feet upstream of the confluence with Haw River | •480
At the Alamance/Guilford County boundary | •557
Alamance County (Unincorporated Areas), Village of Alamance, Cities of Burlington and Graham, and Town of Swepsonville
Big Branch:
Approximately 1,000 feet upstream of the confluence with Haw River | •410
Approximately 0.7 mile upstream from Mandale Road | •465
Alamance County (Unincorporated Areas)
Boyd Branch:
At the confluence with Little Alamance Creek | •516
At Hanford Road | •516
City of Burlington, City of Graham
Boyds Creek:
Approximately 0.3 mile downstream of Luckstone Road | •570
Approximately 1.1 miles upstream of Sandy Cross Road | •653
Alamance County (Unincorporated Areas)
Boyds Creek Tributary 1:
Approximately 350 feet upstream of the confluence with Boyds Creek | •512
Approximately 0.9 mile upstream of Lakeview Drive | •677
Alamance County (Unincorporated Areas), Town of Haw River
Boyds Creek Tributary 2:
At the confluence with Boyds Creek | •586
Approximately 0.8 mile upstream of Sandy Cross Road | •636
Alamance County (Unincorporated Areas)
Burlington Reservoir:
Entire shoreline within community | •579
Buttermilk Creek:
Approximately 1,000 feet upstream of the confluence with Stony Creek | •555
Approximately 1.0 mile upstream of Reid Road | •715
Buttermilk Creek Tributary 1:
At the confluence with Buttermilk Creek | •601
Approximately 1.1 miles upstream of the confluence with Buttermilk Creek | •713
Buttermilk Creek Tributary 2:
At the confluence with Buttermilk Creek | •621
Approximately 1,000 feet upstream of the confluence with Buttermilk Creek Tributary 3 | •708
Buttermilk Creek Tributary 3:
At the confluence with Buttermilk Creek Tributary 2 | •694
Approximately 1,500 feet upstream of the confluence with Buttermilk Creek Tributary 2 | •709
Cane Creek (North):
Approximately 850 feet upstream of the confluence with Haw River | •429
At the Alamance/Orange County boundary | •429
Cane Creek (South):
Approximately 210 feet upstream of Bethel South Fork Road | •501
Approximately 1.5 miles upstream of the confluence with Well Creek | •596
Cane Creek (South) Tributary 1:
At the confluence with Cane Creek (South) | •535
Approximately 1.3 miles upstream of Old Dam Road | •608
Cane Creek (South) Tributary 2:
At the confluence with Cane Creek (South) Tributary 1 | •586
Approximately 0.7 mile upstream of Old Dam Road | •595
Cane Creek (South) Tributary 3:
At the confluence with Cane Creek (South) | •558
Approximately 2.3 miles upstream of the confluence with Cane Creek (South) | •599
Cane Creek (North) Tributary 4:
At the confluence with Cane Creek (North) | •429
Approximately 3,000 feet upstream from the confluence with Cane Creek (North) | •456
Coblebrook Creek:
At the confluence with Little Alamance Creek | •606
Approximately 250 feet upstream of Edgewood Avenue | •688
City of Burlington
Deep Creek:
At the confluence with Stony Creek | •543
Approximately 2,800 feet upstream of Jefferies Cross Road | •698
Alamance County (Unincorporated Areas)
Dry Creek:
Approximately 320 feet upstream of Power Line Road | •630
Approximately 0.7 mile upstream of Power Line Road | •656
Alamance County (Unincorporated Areas), Town of Elon
East Back Creek:
Approximately 1,500 feet downstream of State Route 119 | •533
At the Alamance/Orange County boundary | •559
Alamance County (Unincorporated Areas), City of Mebane
Eastside Creek:
Approximately 400 feet upstream of East Stage Coach Road | •612
Approximately 350 feet upstream of the Alamance/Orange County boundary | •655
City of Mebane
Eastside Creek Tributary:
At the confluence with Eastside Creek | •617
Approximately 530 feet upstream of the confluence with Eastside Creek | •621
Foust Creek:
At the confluence with Cane Creek (South) | •505
Approximately 0.7 mile upstream from Snow Camp Road | •575
Alamance County (Unincorporated Areas)
Greenbriar Creek:
At the Alamance/Chatham County boundary | •633
Approximately 1.1 miles upstream of Staley Store Road | •667
Gunn Creek:
At the confluence with Big Alamance Creek | •503
Approximately 0.8 mile upstream of the confluence with Big Alamance Creek | •503
City of Burlington
Gunn Creek:
Approximately 150 feet downstream of Mill Pointe Way | •638
Approximately 0.8 mile upstream of Mill Pointe Way | •684
Alamance County (Unincorporated Areas), City of Burlington
Haw Creek Tributary 1:
Approximately 1,350 feet upstream of the confluence with Haw Creek | •506
Approximately 1.5 miles upstream of Turner Road | •575
Alamance County (Unincorporated Areas), City of Mebane
Haw River Tributary 2:
Approximately 1,400 feet upstream of the confluence with Haw River | •435
Approximately 1.2 miles upstream from the confluence with Haw River | •534
Alamance County (Unincorporated Areas)
Haw River Tributary 3:
Approximately 1,600 feet upstream of the confluence with Haw River | •437
Approximately 0.6 mile upstream of Austin Quarter Road | •609
Haw River Tributary 4:
Approximately 0.5 mile upstream of the confluence with Haw River | •439
Approximately 0.9 mile upstream of Saxaphaw Bethlehem Church Road | •623
Haw River Tributary 5:
At the confluence with Haw River Tributary 4 | •472
Approximately 400 feet upstream from John Thompson Road | •553
Haw River Tributary 6:
Approximately 1,300 feet upstream of the confluence with Haw River | •460
Approximately 0.6 mile upstream of NC Highway 87 | •539
Haw River Tributary 8:
At the confluence with Haw River | •558
Approximately 2,250 feet upstream of Atwater Road | •649
Haw River Tributary 10:
At the confluence with Unnamed Tributary to Haw River at Glencoe | •573
Approximately 1.3 miles upstream of Mansfield Road | •670
Haw River Tributary 11:
Approximately 750 feet upstream of the confluence with Haw River | •589
Approximately 1,300 feet upstream of Lonzie Foster Trail | •710
Haw River Tributary 12:
At the confluence with Haw River Tributary 11 | •609
Approximately 600 feet upstream of Altamahaw Race Track Road | •742
Haw River Tributary 13:
At the upstream side of Altamahaw Union Ridge Road | •608
Approximately 0.6 mile upstream of Mack's Chapel Road | •689
Haw River Tributary 14:
Approximately 0.4 mile upstream with the confluence of Haw River | •620
Approximately 0.6 mile upstream of Gilliam Church Road | •696
Haw River Tributary 15:
At the Alamance/Guilford County boundary | •664
Approximately 0.6 mile upstream of Lee Lewis Road | •712
Hughes Mill Creek:
At the confluence with Jordan Creek | •603
Approximately 150 feet above the Alamance/Caswell County boundary | •618
Jones Creek:
At the confluence with Buttermilk Creek | •608
Approximately 1,850 feet upstream of Altamahaw Race Track Road | •684
Jordan Creek:
Approximately 1,500 feet upstream of the confluence with Stony Creek | •552
Approximately 1.3 miles upstream of Hughes Mill Road | •635
Laughin Creek:
At the confluence with Buttermilk Creek | •589
Approximately 300 feet downstream of Alamance/Caswell County boundary | •739
Laughin Creek Tributary 1:
At the confluence with Laughin Creek | •609
Approximately 1.0 mile upstream of the confluence with Laughin Creek | •680
Little Alamance Creek:
Approximately 1.7 miles upstream of Big Alamance Creek | •490
Approximately 0.9 mile upstream of Interstates 40 and 85 | •571
Alamance County (Unincorporated Areas), City of Burlington
Little Alamance Creek Tributary:
At the confluence with Little Alamance Creek | •565
Approximately 350 feet upstream of Maple Avenue | •613
City of Burlington
Little Creek:
At the confluence with Sinking Quarter Creek | •542
Approximately 0.9 mile upstream of the confluence with Little Creek Tributary 2 | •608
Alamance County (Unincorporated Areas)
Little Creek Tributary 1:
At the confluence with Little Creek | •552
Approximately 0.7 mile upstream of the confluence with Little Creek | •591
Little Creek Tributary 2:
At the confluence with Little Creek | •570
Approximately 0.5 mile upstream of Vernon Lane | •652
Long Branch:
At the confluence with Marys Creek | •461
Approximately 0.9 mile upstream of Stockard Road | •511
Marys Creek:
Approximately 1,400 feet upstream of the confluence with Haw River | •436
Approximately 0.7 mile upstream from Snow Camp Road | •578
McAdams Creek Tributary:
Approximately 500 feet upstream of the confluence with McAdams Creek | •588
Approximately 0.6 mile upstream of 3rd Street | •645
City of Mebane
Meadow Creek:
Approximately 110 feet upstream of NC Highway 54 | •580
Approximately 1.2 miles upstream of NC Highway 54 | •605
Alamance County (Unincorporated Areas)
Michaels Branch:
At the confluence with West Back Creek and Back Creek | •576
Approximately 290 feet upstream of Long Street | •692
Alamance County (Unincorporated Areas), City of Burlington, Town of Elon
Michaels Branch Tributary:
At the confluence with Michaels Branch | •633
Approximately 350 feet upstream of Driftwood Drive | •665
Town of Elon, Town of Gibsonville
Mine Creek:
Approximately 400 feet upstream of the confluence with Stony Creek | •549
Approximately 2.5 miles upstream of Mine Creek Road | •658
Alamance County (Unincorporated Areas)
Motes Creek:
Approximately 500 feet upstream of the confluence with Haw River | •441
Approximately 100 feet upstream of NC Highway 54 | •569
Motes Creek Tributary:
At the confluence with Motes Creek | •517
Approximately 0.6 mile upstream from Mineral Springs Road | •557
North Prong Creek:
At the confluence with North Prong Rocky River | •658
At the Alamance/Randolph County boundary | •686
North Prong Rocky River:
Approximately 800 feet downstream of the Alamance/Chatham County boundary | •647
At the Alamance/Randolph County boundary | •676
North Prong Stinking Quarter Creek:
At the confluence with Stinking Quarter Creek | •508
At the Alamance/Guilford County boundary | •589
Alamance County (Unincorporated Areas), Village of Alamance
Owens Creek:
At the confluence with Jordan Creek | •563
Approximately 1.8 miles upstream of Blanchard Road | •647
Alamance County (Unincorporated Areas)
Parks Creek:
Approximately 700 feet upstream of the confluence with Reedy Fork | •612
Approximately 0.7 mile upstream of Shepherd Road | •645
Pine Branch:
At the confluence with Cane Creek (South) | •448
Approximately 740 feet upstream of the confluence with Cane Creek (South) | •448
Pine Hill Branch:
At the confluence with South Fork | •475
Approximately 1,400 feet upstream from Clark Road | •547
Pine Hill Branch Tributary:
At the confluence with Pine Hill Branch | •502
Approximately 320 feet upstream from Quackenbush Road | •522
Poppaw Creek:
At the confluence with Stinking Quarter Creek | •543
Approximately 4.5 miles downstream of Foster Store Road | •649
Poppaw Creek Tributary 1:
At the confluence with Poppaw Creek | •612
Approximately 100 feet upstream of Timber Ridge Lake Road | •647
Poppaw Creek Tributary 2:
At the confluence with Poppaw Creek | •613
Approximately 0.9 mile upstream of the confluence with Poppaw Creek | •660
Quaker Creek:
Approximately 0.7 mile downstream of Dickey Mill Road | •534
Approximately 2.4 miles upstream of the confluence with Quaker Creek Tributary 2 | •696
Quaker Creek Tributary 1:
At the confluence with Quaker Creek | •594
Approximately 0.5 mile upstream of Cates Loop Road | •676
Quaker Creek Tributary 2:
At the confluence with Quaker Creek | •612
Approximately 0.9 mile upstream of Tangle Ridge Trail | •673
Reedy Branch:
At the confluence with Cane Creek (South) | •509
Approximately 0.4 mile upstream of Clark Road | •606
Rock Creek:
Upstream side of Friendship Patterson Mill Road | •538
Approximately 1.2 miles upstream of Beale Road | •637
Rock Creek Tributary:
At the confluence with Rick Creek | •560
Approximately 1.3 miles upstream of NC Highway 49 | •594
Serub Creek:
Approximately 1,250 feet upstream of Mebane Rogers Road | •534
Approximately 1,950 feet upstream of Dickey Mill Road | •595
Servis Creek:
Approximately 1,600 feet downstream of Burch Bridge Road | •611
Approximately 500 feet upstream of Cadiz Street | •665
Alamance County (Unincorporated Areas), City of Burlington
South Fork:
Approximately 0.4 mile upstream of the confluence with Cane Creek (South) | •449
At the Alamance/Chatham County boundary | •525
Alamance County (Unincorporated Areas)
Stagg Creek:
Approximately 0.8 mile downstream of State Route 119 | •536
At the Alamance/Orange County boundary | •605
Stagg Creek Tributary 1:
At the confluence with Stagg Creek | •580
Approximately 500 feet upstream of Corbett Road | •734
Stagg Creek Tributary 2:
At the confluence with Stagg Creek | •604
At the Alamance/Orange County boundary | •608
Staley Creek:
Approximately 100 feet upstream of Rauhut Street | •594
Approximately 200 feet upstream of Chestnut Street | •664
Alamance County (Unincorporated Areas), City of Burlington
Steelhouse Branch:
Approximately 350 feet upstream of the confluence with Town Branch | •493
Approximately 650 feet upstream of East Crescent Square Drive | •572
City of Graham
Stinking Quarter Creek:
Approximately 350 feet upstream of the confluence with Rock Creek | •496
Approximately 100 feet upstream of the Alamance/Guilford County boundary | •556
Alamance County (Unincorporated Areas)
Stony Creek:
At the confluence with Burlington Reservoir | •579
At the Alamance/Orange County boundary | •596
Tickle Creek:
Approximately 200 feet downstream of the Alamance/Guilford County boundary | •644
At the Alamance/Guilford County boundary | •645
Toms Creek:
At the confluence with Burlington Reservoir | •579
At the Alamance/Caswell County boundary | •599
Travis Creek:
Approximately 1,100 feet upstream of the confluence with Tributary A to Travis Creek | •618
At the Alamance/Guilford County boundary | •618
Alamance County (Unincorporated Areas), Town of Gibsonville
Travis Creek Tributary 2:
Approximately 700 feet upstream of the confluence with Travis Creek | •596
Approximately 250 feet upstream of Burlington Avenue | •678
Alamance County (Unincorporated Areas), Town of Elon, Town of Gibsonville
Tributary A to Haw Creek:
Approximately 75 feet upstream of Jones Drive | •551
At the Alamance/Orange County boundary | •572
Alamance County (Unincorporated Areas)
Tributary A to Travis Creek:
Approximately 500 feet downstream of the Alamance/Guilford County boundary | •623
At the Alamance/Guilford County boundary | •623
Tributary to Travis Creek:
Approximately 250 feet downstream of the Alamance/Guilford County boundary | •629
At the Alamance/Guilford County boundary | •630
Town of Gibsonville
Unnamed Tributary to Haw River at Glencoe:
Approximately 30 feet upstream of Greenwood Drive | •578
Approximately 1.6 miles upstream of Isley School Road | •665
Alamance County (Unincorporated Areas)
Varnals Creek:
Approximately 0.4 mile downstream of Bass Mountain Road | •554
Approximately 0.9 mile upstream of Bass Mountain Road | •571
Varnals Creek Tributary:
Approximately 275 feet upstream of the confluence with Varnals Creek | •481
Approximately 1.9 miles upstream of the confluence with Varnals Creek | •553
Well Creek:
At the confluence with Cane Creek (South) | •573
Approximately 0.6 mile upstream of Longest Acres Road | •662
Whittie Creek:
At the confluence with Buttermilk Creek | •568
Approximately 0.6 mile upstream of Baker Bell Farm Road | •655
Willowbrook Creek:
At the confluence with Little Alamance Creek | •575
Approximately 50 feet upstream of Allbright Avenue | •672
City of Burlington
Alamance County (Unincorporated Areas)
Maps available for inspection at the Alamance County Annex Building, Planning Department, 124 West Elm Street, Graham, North Carolina.
Village of Alamance
Maps available for inspection at the Alamance Village Hall, 2879 Rob Shepard Drive, Alamance, North Carolina.
City of Burlington
Maps are available for inspection at the Burlington City Hall, Engineering Department, 425 South Lexington Avenue, Burlington, North Carolina.
Town of Elon
Maps available for inspection at the Elon Town Hall, 104 South Williamson Avenue, Elon, North Carolina.
Town of Gibsonville
Maps are available for inspection at the Town of Gibsonville Planning Department, 129 West Main Street, Gibsonville, North Carolina.
City of Graham
Maps available for inspection at the Graham City Hall, Planning Department, 201 South Main Street, Graham, North Carolina.
Town of Green Level
Maps available for inspection at the Green Level Town Hall, 2510 Green Level Church Road, Green Level, North Carolina.
Town of Haw River
Maps available for inspection at the Haw River Town Hall, 403 East Main Street, Haw River, North Carolina.
City of Mebane
Maps available for inspection at the Mebane City Hall, 106 East Washington Street, Mebane, North Carolina.
Town of Swepsonville
Maps available for inspection at the Alamance County Planning Department, Annex Building, 124 West Elm Street, Graham, North Carolina.
———
Dare County (FEMA Docket No. D-7622)
Atlantic Ocean:
Approximately 900 feet south of the intersection of Lighthouse Road and Hatteras Court | •5
Approximately 1,600 feet northeast of the intersection of State Route 12 and Baum Trail | •15
Dare County (Unincorporated Areas), and Towns of Duck, Kill Devil Hills, Kitty Hawk, Manteo, Nags Head, and Southern Shores
Roanoke Sound:
At the intersection of Cedar Drive and Captains Lane | •9
Approximately 1,200 feet east of the intersection of Sailfish Drive and Sailfish Court | •12
Dare County (Unincorporated Areas), Towns of Kill Devil Hills, and Nags Head
Pamlico Sound:
Along Oregon Inlet Channel, west of State Route 12 | •9
Approximately 1,750 feet north of the intersection of Mail Landing Lane and State Route 12 | •12
Dare County (Unincorporated Areas)
Croatan Sound:
Southeast corner of U.S. Route 264 and Old Ferry Dock Road | •6
At the intersection of Hassell Road and Shipyard Road | •7
Currituck Sound:
Approximately 500 feet west of the intersection of North Dune Loop and Soundview Trail | •7
Approximately 0.9 mile west of the intersection of Baum Trail and State Route 12 | •9
Dare County (Unincorporated Areas), Towns of Duck and Southern Shores
Dare County (Unincorporated Areas)
Maps available for inspection at the Dare County Justice Center, Tax Mapping Department, 211 Budleigh Street, Manteo, North Carolina.
Town of Duck
Maps available for inspection at the Town of Duck Planning and Zoning Department, 1240 Duck Road, Duck, North Carolina.
Town of Kill Devil Hills
Maps available for inspection at the Town of Kill Devil Hills Planning and Building Directors Office, 102 Town Hall Drive, Kill Devil Hills, North Carolina.
Town of Kitty Hawk
Maps available for inspection at the Kitty Hawk Town Hall, 101 Veterans Memorial Drive, Kitty Hawk, North Carolina.
Town of Manteo
Maps available for inspection at the Manteo Town Hall, 407 Budleigh Street, Manteo, North Carolina.
Town of Nags Head
Maps available for inspection at the Town of Nags Head Planning Department, 5401 South Croatan Highway, Nags Head, North Carolina.
Town of Southern Shores
Maps available for inspection at the Town of Southern Shores Building Inspections Department, 6 Skyline Road, Southern Shores, North Carolina.
———
Harnett County (FEMA Docket No. D-7640)
Anderson Creek:
At the confluence with Lower Little River | •103
At the confluence with North Prong Anderson Creek and South Prong Anderson Creek | •137
Unincorporated Areas of Harnett County
Anderson Creek Tributary 1:
At the confluence with Anderson Creek | •129
Approximately 0.7 mile upstream of Elliott Bridge Road | •136
Avents Creek:
At the confluence with Cape Fear River | •141
Approximately 0.8 mile upstream of Oakridge River Road | •235
Barbecue Creek:
At the confluence with Upper Little River | •193
Approximately 700 feet upstream of NC State Route 27 | •280
Beaver Creek:
Approximately 500 feet downstream of the Moore/Lee/Harnett County boundary | •307
Approximately 1.3 miles upstream of the Harnett/Moore County boundary | •409
Big Branch (into Barbecue Creek):
At the confluence with Barbecue Creek | •214
Approximately 0.5 mile upstream of McCormick Road | •252
Big Branch (into Black River):
At the confluence with Black River | •206
Approximately 0.8 mile upstream of Johnson Road | •219
Black River:
At the Harnett/Cumberland County boundary | •139
Approximately 2.1 miles upstream of Guy Road | •260
Unincorporated Areas of Harnett County, City of Dunn, Town of Angier
Buffalo Creek:
At the Harnett/Moore County boundary | •218
At the confluence with Duncan Creek | •251
Unincorporated Areas of Harnett County
Buffalo Creek Tributary 2:
At the confluence with Buffalo Creek | •220
Approximately 2.6 miles upstream of Hillmon Grove Road | •276
Buffalo Creek Tributary 3:
At the confluence with Buffalo Creek | •239
Approximately 1.4 miles upstream of the confluence with Buffalo Creek | •292
Buffalo Meadows Creek:
At the confluence with Anderson Creek | •120
Approximately 1.3 miles upstream of the confluence with Anderson Creek | •140
Buies Creek:
At the upstream side of Sheriff Johnson Road | •176
Approximately 0.8 mile upstream of Sheriff Johnson Road | •184
Camels Creek:
At the confluence with Cape Fear River | •142
Approximately 0.9 mile upstream of Cool Springs Road | •245
Cedar Creek:
Approximately 0.8 mile upstream of the confluence with Cape Fear River | •145
Approximately 2.9 miles upstream of the confluence with Cape Fear River | •198
Cypress Creek (into Crane Creek):
At the Moore/Harnett County boundary | •226
Approximately 1.8 miles upstream of Cypress Road | •265
Cypress Creek (into Gum Swamp):
At the confluence with Gum Swamp | •239
Approximately 1.5 miles upstream of the confluence with Lower Run | •307
Daniels Creek:
Approximately 0.9 mile upstream of the confluence with Cape Fear River | •148
Approximately 5.8 miles upstream of the confluence with Cape Fear River | •244
Dry Creek:
At the confluence with Gum Swamp | •232
Approximately 1.1 miles upstream of the confluence with Gum Swamp | •249
Duncans Creek:
At the confluence with Buffalo Creek | •251
At the confluence with Duncans Creek Tributary 1 | •265
Duncans Creek Tributary 1:
At the confluence with Duncans Creek | •265
Approximately 0.4 mile upstream of the confluence with Duncans Creek | •274
East Buies Creek:
Approximately 100 feet upstream of Sheriff Johnson Road | •196
Approximately 1.2 miles upstream of Sheriff Johnson Road | •205
Gum Swamp:
At the confluence with Barbeque Creek | •222
Approximately 0.8 mile upstream of Ponderosa Road | •281
Hector Creek (into Cape Fear River):
At the downstream side of Christian Light Road | •136
Approximately 1,200 feet downstream of Rawls Church Road | •240
Hector Creek (into Little River):
At the Harnett/Cumberland/Moore County boundary | •194
Approximately 1.6 miles upstream of the Harnett/Cumberland/Moore County boundary | •226
Jumping Run Creek:
Approximately 1.8 miles downstream of the Harnett/Cumberland County boundary | •141
At the Reedy Swamp/McLeod Creek confluences | •194
Jumping Run Creek Tributary 1:
At the confluence with Jumping Run Creek | •176
Approximately 0.2 mile upstream of the confluence with Jumping Run Creek Tributary 2 | •199
Jumping Run Creek Tributary 2:
At the confluence with Jumping Run Creek Tributary 1 | •193
Approximately 400 feet upstream of the confluence with Jumping Run Creek Tributary 1 | •195
Juniper Creek (into Black River) Tributary:
At the confluence with Juniper Creek (into Black River) | •191
Approximately 0.5 mile upstream of the confluence with Juniper Creek (into Black River) | •197
City of Dunn
Juniper Creek (into Black River):
Approximately 600 feet upstream of the confluence with Black River | •159
Approximately 340 feet upstream of Friendly Road | •213
Unincorporated Areas of Harnett County
Kates Creek:
At the confluence with North Prong Anderson Creek | •155
Approximately 0.4 mile upstream of Elliott Bridge Road | •172
Unincorporated Areas of Harnett County
Kenneth Creek:
At the confluence with Neills Creek | •202
At the Wake/Harnett County boundary | •256
Lower Little River:
Approximately 1.1 miles upstream of Mill Road | •103
Approximately 750 feet downstream of McCormick Bridge Road (At the Harnett/Cumberland County boundary) | •135
Lower Run:
At the confluence with Cypress Creek (into Gum Swamp) | •272
Approximately 0.9 mile upstream of the confluence with Cypress Creek (into Gum Swamp) | •338
McDougald Branch:
At the confluence with Cypress Creek (into Crane Creek) | •234
At the confluence with McDougald Branch Tributary | •249
McDougald Branch Tributary:
At the confluence with McDougald Branch | •249
Approximately 0.5 mile upstream of the confluence with McDougald Branch | •274
McLeans Creek:
At the confluence with Upper Little River | •136
Approximately 800 feet downstream of Thompson Road | •154
McLeod Creek:
At the confluence with Jumping Run Creek and Reedy Swamp | •194
Approximately 2.8 miles upstream of the confluence with Jumping Run Creek and Reedy Swamp | •247
Mill Creek:
At the confluence with Avents Creek | •152
Approximately 0.8 mile upstream of the confluence with Avents Creek | •183
Mingo Swamp:
At the Cumberland/Sampson/Harnett County boundary | •134
Approximately 0.7 mile upstream of Red Hill Church Road | •255
Mingo Swamp Tributary 1:
At the confluence with Mingo Swamp | •179
Approximately 1,100 feet upstream of I-95 | •234
Mire Branch:
At the confluence with Barbeque Creek | •249
Approximately 0.7 mile upstream of NC State Route 87 | •279
Muddy Creek:
At the Cumberland/Harnett County boundary | •175
Approximately 2.3 miles upstream of the confluence with Muddy Creek Tributary 3 | •244
Muddy Creek Tributary 1:
At the confluence with Muddy Creek | •186
Approximately 1.2 miles upstream of the confluence with Muddy Creek | •222
Muddy Creek Tributary 2:
At the confluence with Muddy Creek | •199
Approximately 1.4 miles upstream of the confluence with Muddy Creek | •222
Muddy Creek Tributary 3:
At the confluence with Muddy Creek | •207
Approximately 1.0 mile upstream of the confluence with Muddy Creek | •250
Neills Creek:
Approximately 1,800 feet downstream of Route 401 | •130
At the Wake/Harnett County boundary | •264
Neills Creek Tributary 1:
At the confluence with Neills Creek | •221
Approximately 0.4 mile upstream of Chalybeate Springs Road | •242
North Prong Anderson Creek:
At the confluence with Anderson Creek and South Prong Anderson Creek | •137
Approximately 0.9 mile upstream of Powell Farm Road | •225
North Prong Anderson Creek Tributary 1:
At the confluence with North Prong Anderson Creek | •152
Approximately 0.6 mile upstream of the confluence with North Prong Anderson Creek | •158
Parker Creek:
Approximately 0.3 mile upstream of the confluence with Cape Fear River | •151
Approximately 3.9 miles upstream of the confluence with Cape Fear River | •237
Reedy Branch:
At the confluence with Cypress Creek (into Crane Creek) | •237
Approximately 1.8 miles upstream of Cypress Road | •282
Reedy Swamp:
At the confluence with Jumping Run Creek and McLeod Creek | •194
Approximately 300 feet downstream of Buffalo Lake Road | •302
South Prong Anderson Creek:
At the confluence with Anderson Creek | •137
Approximately 0.7 mile upstream of Bernard Street | •187
South Prong Anderson Creek Tributary 1:
At the confluence with South Prong Anderson Creek | •156
Approximately 1.0 mile upstream of the confluence with South Prong Anderson Creek | •168
Stewarts Creek:
Approximately 100 feet upstream of Ashe Avenue | •163
Approximately 1.4 miles upstream of Ashe Avenue | •183
Stewarts Creek Tributary 1:
At the confluence with Stewarts Creek | •166
Approximately 0.4 mile upstream of Daniels Road | •184
Stony Run Tributary 1:
Approximately 500 feet upstream of the confluence with Stony Run | •190
Approximately 0.9 mile upstream of the confluence with Stony Run | •198
Tributary 1:
At the confluence with Little River | •134
Approximately 0.3 mile upstream of Rambeaut Road | •170
Tributary 2:
Approximately 800 feet downstream of Rambeaut Road | •175
Approximately 100 feet downstream of Rambeaut Road | •181
Upper Little River:
Approximately 0.9 mile upstream of Titan Roberts Road | •110
At the Lee/Harnett County boundary | •240
Walkers Creek:
At the confluence with Upper Little River | •157
Approximately 340 feet upstream of Tim Currin Road | •201
West Buies Creek:
Approximately 1,000 feet upstream of East Cornelius Harnett Boulevard | •155
Approximately 1.6 miles upstream of Sheriff Johnson Road | •216
City of Dunn
Maps are available for inspection at the Dunn Town Hall, 401 East Broad Street, Dunn, North Carolina.
Town of Angier
Maps are available for inspection at the Angier Town Hall, 55 North Broad West, Angier, North Carolina.
Unincorporated Areas of Harnett County
Maps are available for inspection at the Harnett County Planning Department, 102 East Front Street, Lillington, North Carolina.
———
Lee County (FEMA Docket No. FEMA-D-7646)
Beaver Creek:
At the Lee/Moore County boundary | •307
At the Lee/Harnett County boundary | •310
Unincorporated Areas of Lee County
Big Branch:
At the Lee/Moore County boundary | •296
Approximately 0.6 mile upstream of the Lee/Moore County boundary | •304
Big Buffalo Creek:
At the confluence with Deep River | •228
Approximately 0.3 mile upstream of U.S. Route 1 | •289
Unincorporated Areas of Lee County, City of Sanford
Big Buffalo Creek Tributary 1:
At the confluence with Big Buffalo Creek | •253
Approximately 0.5 mile upstream of Valley Road | •297
City of Sanford, Unincorporated Areas of Lee County
Big Governors Creek:
At the confluence with Deep River | •257
At the confluence of Little Governors Creek | •257
Unincorporated Areas of Lee County
Bush Creek:
At the confluence with Cape Fear River | •169
Approximately 3.7 miles upstream of the confluence with Cape Fear River | •234
Bush Creek Tributary 1:
At the confluence with Bush Creek | •170
Approximately 1,000 feet upstream of Poplar Springs Church Road | •239
Cape Fear River:
At the Lee/Harnett County boundary | •152
At the confluence of Deep River | •177
Cape Fear River Tributary 1:
At the confluence with Cape Fear River | •172
Approximately 1.2 miles upstream of Poplar Springs Church Road | •256
Carrs Creek:
At the confluence with Upper Little River | •259
Approximately 0.3 mile upstream of the confluence with Upper Little River | •264
Copper Mine Creek:
At the confluence with Hughes Creek and Gum Fork Creek | •199
Approximately 0.6 mile upstream of Farrell Road | •230
Deep River:
At the confluence with Cape Fear River | •177
At the confluence of Big Governors Creek | •257
Deep River Tributary 1:
At the confluence with Deep River | •227
Approximately 1.4 miles upstream of the confluence of Deep River Tributary 3 | •237
Unincorporated Areas of Lee County, City of Sanford
Deep River Tributary 10:
At the confluence with Deep River | •255
Approximately 1.3 miles upstream of the confluence with Deep River | •261
Unincorporated Areas of Lee County
Deep River Tributary 11:
At the confluence with Deep River | •256
Approximately 1.0 mile upstream of the confluence of Tributary to Deep RiverTributary 11 | •282
Deep River Tributary 2:
At the confluence with Deep River Tributary 1 | •227
Approximately 0.8 mile upstream of the confluence with Deep River Tributary 1 | •235
Deep River Tributary 3:
At the confluence with Deep River Tributary 1 | •227
Approximately 1.0 mile upstream of the confluence with Deep River Tributary 1 | •247
Deep River Tributary 9:
At the confluence with Deep River | •252
Approximately 0.9 mile upstream of the confluence with Deep River | •256
Dry Fork:
At the confluence with Pocket Creek | •299
Approximately 2.4 miles upstream of Dycus Road | •476
Fall Creek:
At the confluence with Cape Fear River | •156
Approximately 0.4 mile upstream of Copeland Road | •329
Gasters Creek West:
At the confluence with Upper Little River | •312
Approximately 0.4 mile upstream of Minter School Road | •401
Unincorporated Areas of Lee County, City of Sanford
Gasters Creek West Tributary 1:
At the confluence with Gasters Creek West | •337
Approximately 520 feet upstream of Lemon Springs Road | •372
Unincorporated Areas of Lee County
Gum Fork Creek:
At the confluence with Copper Mine Creek and Hughes Creek | •199
Approximately 1.3 miles upstream of US-1 | •269
Hughes Creek:
At the confluence with Lick Creek | •173
At the confluence of Copper Mine Creek and Gum Fork Creek | •199
Hughes Creek Tributary 1:
At the confluence with Hughes Creek | •173
Approximately 0.5 mile upstream of Cletus Hall Road | •194
Juniper Creek:
At the confluence with Upper Little River | •266
Approximately 1.0 mile upstream of Nicholson Road | •363
Kendale Creek:
Approximately 1,400 feet upstream of Hiawatha Trail | •352
Approximately 2,000 feet upstream of Hiawatha Trail | •353
City of Sanford, Unincorporated Areas of Lee County
Lick Creek:
At the confluence with Cape Fear River | •173
Approximately 1.0 mile upstream of Pumping Station Road | •373
Unincorporated Areas of Lee County, City of Sanford
Lick Creek Tributary 1:
At the confluence with Lick Creek | •173
Approximately 0.6 mile upstream of Cletus Hall Road | •225
Unincorporated Areas of Lee County
Lick Creek Tributary 2:
At the confluence with Lick Creek | •239
Approximately 1.6 miles upstream of the confluence with Lick Creek | •325
Unincorporated Areas of Lee County, City of Sanford
Lick Creek Tributary 3:
At the confluence with Lick Creek | •296
Approximately 0.9 mile upstream of the confluence with Lick Creek | •338
Unincorporated Areas of Lee County
Little Buffalo Creek:
At the confluence with Deep River | •222
Approximately 1,000 feet upstream of Highway 421/Highway 87 | •406
Unincorporated Areas of Lee County, City of Sanford
Little Crane Creek Tributary 2:
Approximately 1,300 feet upstream of the confluence with Little Crane Creek | •332
Approximately 1.3 miles upstream of the confluence with Little Crane Creek | •384
Unincorporated Areas of Lee County
Little Crane Creek Tributary 3:
Approximately 700 feet upstream of the confluence with Little Crane Creek | •347
Approximately 0.4 mile upstream of the confluence with Little Crane Creek | •370
Little Crane Creek Tributary 4A:
At the confluence with Little Crane Creek Tributary 4 | •363
Approximately 1,500 feet upstream of Eakes Road | •425
Little Crane Creek Tributary 4B:
At the confluence with Little Crane Creek Tributary 4 | •370
Approximately 750 feet upstream of White Meadows Drive | •411
Little Crane Tributary 4:
Approximately 600 feet upstream of the confluence with Little Crane Creek | •349
Approximately 1.4 miles upstream of the confluence of Little Crane Creek Tributary 4B | •428
Little Governors Creek:
At the confluence with Big Governors Creek | •257
Approximately 8.3 miles upstream of the confluence with Big Governors Creek | •360
Little Juniper Creek:
At the confluence with Upper Little River and Mulatto Branch | •332
Approximately 1.2 miles upstream of Rocky Fork Church Road | •403
Little Juniper Creek Tributary 1:
At the confluence with Little Juniper Creek | •347
Approximately 0.6 mile upstream of the confluence with Little Juniper Creek | •369
Little Juniper Creek Tributary 2:
At the confluence with Little Juniper Creek | •357
Approximately 600 feet upstream of Lemon Springs Road | •408
Little Juniper Creek Tributary 3:
At the confluence with Little Juniper Creek | •360
Approximately 1.2 miles upstream of Willett Road | •457
Little Juniper Creek Tributary 4:
At the confluence with Little Juniper Creek | •366
Approximately 0.3 mile upstream of the confluence with Little Juniper Creek | •376
Little Lick Creek:
At the confluence with Lick Creek | •193
Approximately 1.2 miles upstream of Kids Lane | •365
Little Lick Creek Tributary 1:
At the confluence with Little Lick Creek | •206
Just downstream of Womack Lake Circle | •351
Little Lick Creek Tributary 1A:
At the confluence with Little Lick Creek Tributary 1 | •226
Approximately 1.7 miles upstream of the confluence with Little Lick Creek Tributary 1 | •365
Little Lick Creek Tributary 1B:
At the confluence with Little Lick Creek Tributary 1 | •247
Approximately 1,000 feet upstream of NC 42 (Avents Ferry Road) | •390
Little Pocket Creek:
At the confluence with Pocket Creek | •238
Approximately 1.2 miles upstream of McPherson Road | •383
Little Shaddox Creek:
At the confluence with Cape Fear River | •175
Approximately 450 feet upstream of Lower Moncure Road | •196
Long Branch:
At the confluence with Juniper Creek | •311
Approximately 0.9 mile upstream of John Godfrey Road | •341
Lonnie Wombles Creek:
At the confluence with Cape Fear River | •175
Approximately 0.6 mile upstream of US-1 | •329
Lonnie Wombles Creek Tributary 1:
At the confluence with Lonnie Wombles Creek | •182
Approximately 0.9 mile upstream of US-1 | •324
Lonnie Wombles Creek Tributary 2:
At the confluence with Lonnie Wombles Creek Tributary 1 | •206
Approximately 770 feet upstream of US-1 | •266
Mare Branch:
At the confluence with Juniper Creek | •306
Approximately 0.6 mile upstream of Landfill Road | •380
Mulatto Branch:
At the confluence with Upper Little River and Little Juniper Creek | •332
Approximately 830 feet upstream of Minter School Road | •368
Patchet Creek:
At the confluence with Upper Little River | •245
Approximately 630 feet upstream of John Rosser Road | •325
Patterson Creek:
At the confluence with Deep River | •236
Approximately 1,600 feet upstream of Wicker Street | •391
Persimmon Creek:
At the confluence with Big Buffalo and Skunk Creeks | •289
Approximately 1.5 miles upstream of Carthage Street | •411
Pocket Creek:
At the confluence with Deep River | •238
Approximately 250 feet upstream of Chris Cole Road | •342
Unincorporated Areas of Lee County
Purgatory Branch:
At the confluence with Big Buffalo Creek | •235
Approximately 1.6 miles upstream of Forestwood Park Road | •305
Racoon Creek:
At the confluence with Pocket Creek | •271
Approximately 1.7 miles upstream of South Franklin Drive | •476
Unincorporated Areas of Lee County, City of Sanford
Racoon Creek Tributary 1:
At the confluence with Racoon Creek | •295
Approximately 0.9 mile upstream of the confluence with Racoon Creek | •361
Unincorporated Areas of Lee County
Racoon Creek Tributary 2:
At the confluence with Racoon Creek | •317
Approximately 1,700 feet upstream of the confluence with Racoon Creek | •338
Reedy Branch:
At the confluence with Juniper Creek | •321
Approximately 1,700 feet upstream of Blacks Chapel Road | •378
Roberts Creek:
At the confluence with Hughes Creek | •175
Approximately 0.4 mile upstream of Railroad | •271
Run Branch:
At the confluence with Reedy Branch | •324
Approximately 1.4 miles upstream of the confluence with Reedy Branch | •400
Skunk Creek:
Approximately 10 feet upstream of West Garden Street | •320
Approximately 0.5 mile upstream of West Garden Street | •343
City of Sanford, Unincorporated Areas of Lee County
Smith Creek:
At the confluence with Deep River | •244
Approximately 1.1 miles upstream of Carbonton Road | •269
Unincorporated Areas of Lee County
Stony Creek:
At the confluence with Lick Creek | •191
Approximately 2.1 miles upstream of Poplar Springs Church Road | •358
Sugar Creek:
At the confluence with Pocket Creek | •308
Approximately 1.2 miles upstream of the confluence with Pocket Creek | •337
Tributary to Deep River Tributary 11:
At the confluence with Deep River Tributary 11 | •256
Approximately 2.1 miles upstream of the confluence with Deep River Tributary 11 | •275
Upper Little River:
At the Lee/Harnett County boundary | •240
At the confluence of Mulatto Branch and Little Juniper Creek | •332
Upper Little River Tributary 1:
At the confluence with Upper Little River | •290
Approximately 0.3 mile upstream of Holder Road | •355
Wallace Branch:
At the confluence with Lick Creek | •217
Approximately 1.3 miles upstream of F.L. Dowdy Lane | •268
Wallace Branch Tributary 1:
At the confluence with Wallace Branch | •218
Approximately 0.8 mile upstream of Riddle Road | •279
Wallace Branch Tributary 2:
At the confluence with Wallace Branch | •220
Approximately 0.6 mile upstream of Riddle Road | •246
Wallace Branch Tributary 3:
At the confluence with Wallace Branch | •222
Approximately 1.6 miles upstream of Riddle Road | •317
Whitehorse Branch:
At the confluence with Mulatto Branch | •358
Approximately 0.2 mile upstream of Hickory House Road | •382
Unincorporated Areas of Lee County
City of Sanford
Maps are available for inspection at the City of Sanford Planning Department, 900 Woodland Avenue, Sanford, North Carolina.
Unincorporated Areas of Lee County
Maps are available for inspection at the Lee County Planning Department, 900 Woodland Avenue, Sanford, North Carolina.
WEST VIRGINIA
Raleigh County (FEMA Docket No. D-7642)
Breckenridge Creek:
Approximately 90 feet upstream of the confluence with Marsh Fork | •1,762
Approximately 0.2 mile upstream of State Route 99 | •1,991
Raleigh County (Unincorporated Areas)
Clear Fork:
Approximately 0.4 mile upstream of Clear Fork Road | •1,126
Approximately 250 feet upstream of CR 119 | •1,602
Crab Orchard Creek:
Approximately 250 feet upstream of the confluence with Piney Creek | •2,231
Approximately 0.4 mile upstream of Route 54/24 | •2,320
Cranberry Creek:
At the confluence of Piney Creek | •1,679
Approximately 2.3 miles upstream of the upstream side of Stanford Road | •2,311
Raleigh County (Unincorporated Areas), City of Beckley
North Sand Branch:
Approximately 40 feet upstream of the confluence with Sand Branch | •1,767
Approximately 3.9 miles upstream of the confluence with Sand Branch | •2,280
Raleigh County (Unincorporated Areas)
Sycamore Creek:
At the confluence with Clear Fork | •1,021
Approximately 2.2 miles upstream of the confluence with Clear Fork | •1,230
Tributary 1 to Breckenridge Creek:
At the confluence with Breckenridge Creek | •1,973
Approximately 0.4 mile upstream of the confluence with Breckenridge Creek | •1,990
Tributary 2 to Breckenridge Creek:
At the confluence with Breckenridge Creek | •1,976
Approximately 700 feet upstream of the confluence with Breckenridge Creek | •1,983
Tributary 3 to Breckenridge Creek:
At the confluence with Breckenridge Creek | •1,981
Approximately 1,000 feet upstream of the confluence with Breckenridge Creek | •1,987
White Oak Creek:
Approximately 650 feet upstream of the confluence with Clear Fork | •1,336
Approximately 3.3 miles upstream of the confluence with Clear Fork | •1,827
Raleigh County (Unincorporated Areas)
City of Beckley
Maps available for inspection at the Beckley City Municipal Building, 409 South Kanawha Street, Beckley, West Virginia.
Raleigh County (Unincorporated Areas)
Maps available for inspection at the Raleigh County Commission Building, 16½ North Herber Street, Beckley, West Virginia.

(Catalog of Federal Domestic Assistance No. 83.100, “Flood Insurance.”)

Dated: June 5, 2006.
David I. Maurstad,
Director, Mitigation Division, Federal Emergency Management Agency, Department of Homeland Security.

[FR Doc. E6-9127 Filed 6-9-06; 8:45 am]

BILLING CODE 9110-12-P